DEPARTMENT OF TREASURY

Internal Revenue Service

Electronic Tax Administration Advisory Committee (ETAAC)

AGENCY: Internal Revenue Service, Department of Treasury.

ACTION: Notice.

SUMMARY: The charter for the Electronic Tax Administration Advisory Committee (ETAAC) was renewed on February 27, 2018, in accordance with the Federal Advisory Committee Act (FACA).

FOR FURTHER INFORMATION CONTACT: Michael Deneroff at (202) 317-6851, or send an email to publicliaison@irs.gov.

SUPPLEMENTARY INFORMATION: Notice is hereby given that the charter for the Electronic Tax Administration Advisory Committee (ETAAC) was renewed on February 27, 2018, in accordance with the Federal Advisory Committee Act (FACA), 5 U.S.C., App. 2.

The establishment and operation of the Electronic Tax Administration Advisory Committee (ETAAC) is required by the Internal Revenue Service (IRS) Restructuring and Reform Act of 1998 (RRA 98), Title II, Section 2001(b)(2).

The purpose of the ETAAC is to provide continued input into the development and implementation of the IRS organizational strategy for electronic tax administration. The ETAAC will provide an organized public forum for discussion of electronic tax administration issues such as prevention of identity theft and refund fraud in support of the overriding goal that paperless filing should be the preferred and most convenient method of filing tax and information returns. The ETAAC members will convey the public's perceptions of IRS electronic tax administration activities, offer constructive observations about current or proposed policies, programs and procedures, and suggest improvements.

Dated: February 28, 2018.
John Lipold,
ETAAC Designated Federal Official.

[FR Doc. 2018-04452 Filed 3-5-18; 8:45 am]

BILLING CODE 4830-01-P